FEDERAL COMMUNICATIONS COMMISSION

47 CFR Part 73

[DA 05-2716; MB Docket No. 05-103, RM-11205]

Radio Broadcasting Services; Barnesboro and Gallitzen, PA

AGENCY: Federal Communications Commission.

ACTION: Final rule.

SUMMARY: The Audio Division, at the request of Vernal Enterprises, Inc., licensee of Station WHPA(FM), Channel 228A, Barnesboro, Pennsylvania, deletes Channel 228A at Barnesboro, Pennsylvania, from the FM Table of Allotments, allots Channel 228A at Gallitzen, Pennsylvania, as the community's first local FM service, and modifies the license of Station WHPA(FM) to specify operation on Channel 228A at Gallitzen. Channel 228A can be allotted to Gallitzen, Pennsylvania, in compliance with the Commission's minimum distance separation requirements with a site restriction of 14.8km (9.0 miles) north of Gallitzen. The coordinates for Channel 228A at Gallitzen, Pennsylvania, are 40-36-31 North Latitude and 78-36-21 West Longitude.

DATES: Effective December 1, 2005.

FOR FURTHER INFORMATION CONTACT: Deborah Dupont, Media Bureau, (202) 418-2180.

SUPPLEMENTARY INFORMATION: This is a synopsis of the Commission's Report and Order, MB Docket No. 05-103, adopted October 12, 2005, and released October 17, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Pennsylvania is amended by removing Barnesboro, Channel 228A, and by adding Gallitzen, Channel 228A.

Federal Communications Commission.
John A. Karousos,
Assistant Chief, Audio Division, Media Bureau.

[FR Doc. 05-21555 Filed 11-1-05; 8:45 am]

BILLING CODE 6712-01-P